DEPARTMENT OF ENERGY

Removing Support for the National Definition of a Zero Emissions Building

AGENCY: Office of Energy Efficiency and Renewable Energy, Department of Energy.

ACTION: Notice.

SUMMARY: The Department of Energy is removing support for the National Definition of a Zero Emissions Building guidance document to comply with directions provided in various Executive orders.

FOR FURTHER INFORMATION CONTACT: Ms. Hayes Jones, U.S. Department of Energy, Office of Energy Efficiency and Renewable Energy, Building Technologies Office, EE-5B, 1000 Independence Avenue SW, Washington, DC 20585-0121. Telephone: (202) 256-9934. Email: hayes.jones@ee.doe.gov.

SUPPLEMENTARY INFORMATION:

Table of Contents

I. Background

II. Discussion

III. Approval of the Office of Secretary

I. Background

On June 4th, 2024, the U.S. Department of Energy (DOE) issued the National Definition of a Zero Emissions Building. The definition is not a regulatory standard and is not legally binding; it was intended to provide guidance and criteria that public and private entities might voluntarily choose to adopt to determine whether a building had zero greenhouse gas emissions from operational energy use. The goals that underly the National Definition of a Zero Emissions Building are not consistent with current Administration priorities, and, as a result, DOE no longer supports the definition. In addition, DOE discourages states, municipalities, and standards-setting organizations from using and referencing the definition. The definition is no longer on the DOE website and DOE will not provide any technical assistance related to the definition.

II. Discussion

As outlined in Executive Order 14154, “Unleashing American Energy,” agencies are required to, “review all existing regulations, orders, guidance documents, policies, settlements, consent orders, and any other agency actions (collectively, agency actions) to identify those agency actions that impose an undue burden on the identification, development, or use of domestic energy resources.” 90 FR 8353. As part of that review, DOE has identified the National Definition of a Zero Emissions Building as a guidance document that does not align with Administration priorities.

The Request for Information (RFI) for the development of the National Definition of a Zero Emissions Building suggests that a key impetus for the development of the standard was the Biden-Harris Administration's goal of a, “net-zero emissions, economy-wide, by 2050 and a 100% clean energy electricity sector by 2035.” 89 FR 1086. These goals were detailed in the February 2021 Executive Order 14008, “Tackling the Climate Crisis at Home and Abroad.” 86 FR 7619. However, Executive Order 14008 was rescinded through President Trump's January 2025 Executive Order 14148, “Initial Rescission of Harmful Executive Orders and Actions.” 90 FR 8237. Thus, the goals outlined in Executive Order 14008 are no longer applicable and a guidance document that would support those goals, such as the National Definition of a Zero Emissions Building, is no longer needed.

The RFI also indicates that the definition would help advance the environmental justice goals outlined Executive Order 14096, “Revitalizing Our Nation's Commitment to Environmental Justice for All.” 88 FR 25251. However, this Executive order no longer applies as it was also rescinded through the Trump Administration's, Executive Order 14148 “Initial Rescission of Harmful Executive Orders and Actions,” which identified diversity, equity, and inclusion (DEI) as having corrupted institutions by “replacing hard work, merit, and equality with a divisive and dangerous preferential hierarchy.” 90 FR 8237. Thus, the goals outlined in Executive Order 14096 are no longer applicable and a guidance document that would support those goals, such as the National Definition of a Zero Emissions Building, is no longer needed.

Additionally, removing support for the National Definition of Zero Emission Building is consistent with the Secretarial Order on “Unleashing the Golden Era of American Energy Dominance,” which directs DOE actions in response to President Trump's Executive orders to unleash American Energy. The Secretarial Order is broadly unsupportive of net-zero policies under the belief that they “raise energy costs for American families and businesses, threaten the reliability of our energy system, and undermine our energy and national security.” ¹ The Department recommends that state or local government agencies and standard-setting bodies stop referencing or otherwise citing the national definition.

¹ Secretary Wright Acts to “Unleash Golden Era of American Energy Dominance” Department of Energy, https://www.energy.gov/articles/secretary-wright-acts-unleash-golden-era-american-energy-dominance.

III. Approval of the Office of the Secretary

The Secretary of Energy has approved publication of this notice.

Signing Authority

This document of the Department of Energy was signed on November 19, 2025, by Audrey Robertson, Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 1, 2025.
Jennifer Hartzell,
Alternate Federal Register Liaison Officer, U.S. Department of Energy.

[FR Doc. 2025-21786 Filed 12-2-25; 8:45 am]

BILLING CODE 6450-01-P